DEPARTMENT OF THE INTERIOR

National Park Service

Special Resource Study, Environmental Impact Statement, Blackstone River Valley, Massachusetts and Rhode Island

AGENCY: National Park Service, Department of the Interior.

ACTION: Notice of Intent to Prepare an Environmental Impact Statement, Blackstone River Valley Special Resource Study.

SUMMARY: In accordance with section 102(2)(c) of the National Environmental Policy Act of 1969, the National Park Service (NPS) is preparing an Environmental Impact Statement (EIS) for a Special Resource Study (SRS) of landscape features and sites that contribute to the understanding of the Blackstone River Valley National Heritage Corridor as the birthplace of the Industrial Revolution in the United States. This study was mandated by Public Law 109-338, the “John H. Chafee Blackstone River Valley National Heritage Corridor Reauthorization Act of 2006.”

The Blackstone River Valley National Heritage Corridor encompasses 24 communities located along the Blackstone River and its tributaries spanning from Worcester, MA to Providence, RI. Within the boundaries of the heritage corridor lie approximately 400,000 acres of land and over 500,000 people. The waters of the Blackstone River powered the Slater Mill, a National Historic Landmark, in Pawtucket, RI, America's first successful textile mill. This creative spark contributed to the nation's historic evolution as a global industrial and technological power.

The Blackstone River Valley National Heritage Corridor was established by Public Law 99-647 in November 1986 for the purpose of preserving and interpreting for educational and inspirational benefit of present and future generations the unique and significant contributions to our national heritage of certain historic and cultural lands, waterways and structures within the states of Massachusetts and Rhode Island. The heritage corridor was to provide a management framework to assist the states of Massachusetts and Rhode Island and their units of local government in the development and implementation of integrated cultural, historical and land resource management programs in order to retain, enhance and interpret the significant values of the lands, waters and structures of the corridor.

The purpose of this Special Resource Study/EIS is to provide Congress with information about the national significance, suitability, and feasibility of sites and landscape features within the corridor that are associated with American industrial history for possible inclusion in the National Park System. The study will develop alternative options for management and interpretation of the sites and landscape features under consideration.

The draft report of the study, with the draft EIS, is expected to be completed and available for public review by late 2009.

ADDRESSES: Additional information about the study/EIS may be obtained online at http://www.nps.gov/blac and http://parkplanning.nps.gov. Requests to be added to the project mailing list should be directed to Ellen Carlson, Project Manager, at the address below.

FOR FURTHER INFORMATION CONTACT: Ellen Carlson, Project Manager, National Park Service, Northeast Region, 15 State Street, Boston, Massachusetts 02109, 617-223-5048.

Dated: July 14, 2008.
Michael T. Reynolds,
Acting Regional Director, Northeast Region, National Park Service.

[FR Doc. E8-23307 Filed 10-3-08; 8:45 am]

BILLING CODE 4312-52-M